OFFICE OF PERSONNEL MANAGEMENT

5 CFR Part 875

RIN 3206-AO21

Enhancing Stability and Flexibility for the Federal Long Term Care Insurance Program (FLTCIP)—Abbreviated Underwriting, Applications for FLTCIP Coverage, and Technical Corrections

AGENCY: Office of Personnel Management.

ACTION: Notice of proposed rulemaking.

SUMMARY: The Office of Personnel Management (OPM) is proposing amendments to support FLTCIP program stability and flexibility by amending when abbreviated underwriting will be offered to prospective enrollees and proposing rules for the suspension of applications for coverage and the requirements around any such suspension periods. OPM is also proposing technical corrections for the sake of clarity and to remove redundancies. Finally, with the publication of this rule, OPM is also providing notice of an anticipated suspension period.

DATES: OPM must receive comments on or before July 5, 2022.

ADDRESSES: You may submit comments, identified by docket number and/or Regulatory Information Number (RIN) and title, by the following method:

Federal Rulemaking Portal: http://www.regulations.gov. Follow the instructions for submitting comments. All submissions received must include the agency name and docket number or RIN for this document. The general policy for comments and other submissions from members of the public is to make these submissions available for public viewing at http://www.regulations.gov as they are received without change, including any personal identifiers or contact information.

FOR FURTHER INFORMATION CONTACT: Julia Elam, Supervisory Analyst, julia.elam@opm.gov, (202) 606-1560.

SUPPLEMENTARY INFORMATION:

Background

The Federal Long Term Care Insurance Program (FLTCIP) was created as a result of the enactment of the Long Term Care Security Act of 2000, Public Law 106-265 (“the FLTCIP statute”). This Act required OPM to make long term care (LTC) benefits available to Federal employees, annuitants, active and retired members of the uniformed services, and the qualified relatives of these individuals. As of September 2021, FLTCIP has approximately 267,000 enrollees.

FLTCIP is administered by OPM in accordance with 5 U.S.C. chapter 90 and implementing regulations (5 CFR part 875). FLTCIP is an enrollee-pay-all program; there is no Government contribution toward premiums. Pursuant to 5 U.S.C. 9008, OPM has authority to administer the FLTCIP and is proposing changes, including to the use of abbreviated underwriting and suspension of applications for coverage, as a part of our administrative functions. More information on the program can be found at LTCFEDS.com.

Discussion of the Changes

Changes to the Use of Abbreviated Underwriting

Underwriting is the process of reviewing medical and health-related information furnished in an insurance application process to determine if an applicant presents what an insurance carrier considers an acceptable level of risk. Under current regulations at 5 CFR 875.101 full underwriting is the more comprehensive type of underwriting under FLTCIP which requires an applicant to answer many questions about their health status to enable the Carrier to determine whether the application will be approved. It may also include a review of the applicant's medical records, a phone interview, or an in-home interview. Under the regulations, abbreviated underwriting in FLTCIP asks fewer questions about an applicant's health status than with full underwriting to enable the Carrier to determine whether the application for coverage will be approved. It may also include a review of the applicant's medical records, a phone interview, or an in-home interview.

While eligible individuals may apply for FLTCIP coverage at any time with full underwriting, current rules also provide a 60-day abbreviated underwriting period to newly eligible active workforce members and their spouses. An individual becomes newly eligible as an active workforce member when they enter a position that conveys eligibility, enter a position that conveys eligibility from a position that did not convey eligibility, or return to active service after a break in service of at least 180 days to a position that conveys eligibility. However, experience has shown that the 60-day abbreviated underwriting period for newly eligible active workforce members and spouses is not well-suited to FLTCIP. FLTCIP enrollment is much more common later in one's career than when someone is newly hired. According to a Treasury Report of the Federal Interagency Task Force on Long-Term Care Insurance, people typically purchase long term care insurance (LTCI) in their 50s or 60s, and then hold the insurance while paying premiums for a lengthy period.¹ Since the inception of FLTCIP, only approximately 8% of FLTCIP applicants have applied during the 60-day abbreviated underwriting period. The remaining 92% of FLTCIP applicants have applied during an open season or with full underwriting.

¹ U.S. Department of the Treasury, “Long-Term Care Insurance: Recommendations for Improvement of Regulation.” Report of the Federal Interagency Task Force on Long-Term Care Insurance, August 2020, https://home.treasury.gov/system/files/136/Report-Federal-Interagency-Task-Force-Long-Term-Care-Insurance.pdf.

The proposed changes would eliminate the 60-day abbreviated underwriting period, but not remove abbreviated underwriting entirely from the FLTCIP application process. Instead, OPM would continue to announce in the Federal Register any period during which active workforce members and spouses may apply with abbreviated underwriting, as OPM has done with open seasons in the past. To use more accurate terminology that reflects the underwritten nature of the benefit, and to reduce confusion between a FLTCIP abbreviated underwriting opportunity and the annual Federal Benefits Open Season, OPM is proposing to change the name of any such period to a “special application period” rather than an “open season.” Each future special application period may offer its own underwriting rules. Individual agencies will provide notice to their Federal employees of any special application period.

Suspension of Applications for FLTCIP Coverage

Current rules permit eligible individuals to apply for FLTCIP coverage at any time with full underwriting. As a result, the FLTCIP is continuously open to new enrollment. However, it may be appropriate from time to time for OPM to suspend applications for FLTCIP coverage. For example, it may be appropriate to suspend applications to allow a period of time for revisions to underwriting processes or for premium repricing after a review of actuarial assumptions, in order to ensure that premium rates reasonably and equitably reflect the cost of the benefits provided as required by the statute, and to ensure that OPM can provide eligible individuals with the information needed to enable them to fully evaluate the advantages and disadvantages of obtaining LTCI under FLTCIP. The proposed changes create a process for suspending applications and communicating the start and end of such a suspension period.

Technical Corrections

The current rules have some language that may be considered duplicative or would benefit from greater clarity. The proposed changes make such technical corrections, which do not make any substantive changes to the FLTCIP rules.

Proposed Changes by Section

OPM proposes to make technical corrections to several sections. In 5 CFR 875.101, OPM makes such corrections to the definitions of “Carrier” and “Eligible individual.” Additional technical corrections are proposed to 5 CFR 875.102, 875.203, 875.204, 875.213, and 875.404.

In 5 CFR 875.101, OPM proposes to amend the definition of “Free look” to clarify that the 30-day period is only “after you are approved for coverage and receive the Benefit Booklet,” and not just any time after receiving the Benefit Booklet. The free look applies to any approved coverage, including coverage increases. OPM proposes to add a definition of “special application period” to identify periods of applications for coverage with abbreviated underwriting for active workforce members and spouses. The term “open season” was not used here because such periods require some form of underwriting for enrollment and are held as determined by OPM and not on an annual basis. Conforming amendments are proposed throughout 5 CFR part 875 to use the term “special application period” instead of “open season.”

In 5 CFR 875.107, OPM proposes to add holding special application periods and suspending applications for FLTCIP coverage in its list of responsibilities. OPM proposes the process for such a suspension period in a new section at 5 CFR 875.110. Under this process, OPM may suspend applications for FLTCIP coverage, including coverage increases, for up to 24 months when it determines a suspension to be in the best interests of the Program. A duration of up to 24 months may be necessary to allow for revisions to underwriting processes or for the development and review of pricing assumptions and rates in order to ensure the premium rates reasonably and equitably reflect the cost of the benefits provided, and to ensure that OPM can provide eligible individuals with the information needed to enable them to fully evaluate the advantages and disadvantages of obtaining LTCI under FLTCIP. OPM will issue a Federal Register notice announcing the beginning and end date of the suspension period, at least 30 days before the start of the suspension period. The suspension period may be extended with another notice in the Federal Register at least 30 days before the end of the current suspension period. Additional conforming amendments are proposed throughout 5 CFR part 875 to note that applications for FLTCIP coverage are only permitted outside of a suspension period.

OPM proposes to delete the language at 5 CFR 875.206. This section provided for the 60-day abbreviated underwriting period for new, newly eligible, or returning active workforce members and their spouses. This proposed rule eliminates this 60-day abbreviated underwriting period, thereby limiting abbreviated underwriting to special application periods, for which a definition and conforming amendments are proposed throughout 5 CFR part 875.

In 5 CFR 875.207, OPM previously addressed nonpay status during an open season. OPM proposes to amend this section to use the term “special application period” instead of “open season.” To limit program risk, OPM also proposes to allow only those individuals that return to pay status within 180 days after the end of a special application period to apply using the special application period's rules. Anyone who returns to pay status after missing at least half of the special application period and is eligible to apply using the rules of the special application period will have at least 60 days to do so.

In 5 CFR 875.209, OPM proposes to amend paragraph (a) to require a qualified relative to provide identifying information about the workforce member that makes the qualified relative an eligible individual. This amendment clarifies the regulation and makes it consistent with the application required for the FLTCIP.

In 5 CFR 875.210, OPM proposes to amend paragraph (b)(1) to clarify that the qualified relative of a workforce member that has been involuntarily separated remains eligible for coverage if their application has already been submitted even if coverage has not become effective. This situation only applies where the involuntary separation is not for misconduct in the Federal civilian service or a dishonorable discharge from the uniformed services.

In 5 CFR 875.211, an individual that applies as an active workforce member, but whose eligibility status changes to annuitant, retired member of the uniformed services, or qualified relative, must reapply based on the applicable underwriting requirements. Under the proposed changes for abbreviated underwriting, the underwriting rules would be the same for all applications outside of special application periods. As such, OPM proposes to only require notification to the Carrier about a change in eligibility status after submitting an application for coverage as an active workforce member. No reapplication is necessary if the application was originally submitted with full underwriting.

In 5 CFR 875.213, OPM proposes to delete paragraph (b). That paragraph contains a definition of “domestic partner.” The applicable definition of “domestic partner” is contained in 5 CFR 875.101 and applies to all of 5 CFR part 875.

In 5 CFR 875.401, OPM proposes to remove paragraph (b). The language is now contained in 5 CFR 875.403.

In 5 CFR 875.402, OPM confirms that there are no regularly scheduled open seasons. OPM proposes to amend this section to state that there may be special application periods as appropriate, that those special application periods will be announced in the Federal Register, and the special application periods would offer abbreviated underwriting to active workforce members and their spouses. OPM proposes to delete paragraph (c) since abbreviated underwriting would not be tied to new eligibility under the proposed changes to 5 CFR 875.206.

In 5 CFR 875.403, OPM addresses the timing for applications for FLTCIP coverage. OPM proposes to amend this section to confirm that applications for coverage, including coverage increases, are permitted outside of a suspension period. Applications outside of a special application period would be subject to full underwriting. The language from the removed paragraph (b) of 5 CFR 875.401 is now contained in this section.

In 5 CFR 875.405, OPM proposes to remove all specific provisions based on the nature of the relationship. With the proposed changes to abbreviated underwriting, this language is unnecessary. All applications for FLTCIP coverage outside of a special application period would be subject to full underwriting.

In 5 CFR 875.406, OPM proposes to amend paragraph (a)(1) to make it clear that, outside of a suspension period as described in 5 CFR 875.110, applications for coverage increases are permitted with full underwriting.

In 5 CFR 875.410, OPM proposes to amend the language by deleting the second sentence referencing abbreviated underwriting during any future open season. OPM is proposing to use the term “special application period” and addresses abbreviated underwriting rules for such a period in the proposed changes to 5 CFR 875.402.

In 5 CFR 875.413, OPM proposes to clarify that the potential reinstatement window will begin with the date of the written notice of termination and not from the termination date itself. The written notice comes after the actual termination date, so this allows more time and does not adversely impact the individual if the Carrier is delayed in sending the written notice. The provisions reinstating coverage to the termination date remain unchanged.

Notice of Anticipated Suspension Period

Based on the facts available to OPM at the time of publication of this NPRM, OPM anticipates a 24-month suspension period. Due to emerging program experience, OPM has determined that there is a strong likelihood that FLTCIP premium rates will need to be revised. OPM anticipates a need for a 24-month suspension period in order to ensure FLTCIP premium rates reasonably and equitably reflect the cost of benefits provided, and to revise or adjust as necessary. Based on the facts available to OPM at the time of publication of this NPRM, the suspension period pursuant to 5 CFR 875.110 will begin at the time this rule is finalized. OPM considers this NPRM to serve as the notice required under the proposed paragraph (b) of 5 CFR 875.110(b). In the final rule, OPM will confirm the specific dates and duration for the suspension period based on the most up-to-date information about the Program.

Expected Impact of Proposed Changes

The proposed changes, including underwriting changes and any future suspensions of applications for FLTCIP coverage, would not affect current FLTCIP enrollees. Individuals already enrolled in FLTCIP will retain their coverage as long as they continue to pay premiums. The proposed changes impact new enrollment and are expected to impose no more than de minimus administrative costs to Federal agencies since FLTCIP is an enrollee-pay-all program, and there is no Government contribution toward enrollee premiums.

We expect that the rule will not result in a significant impact on the eligible or newly eligible population. Approximately 6,000 eligible individuals enroll in FLTCIP annually, which is less than 0.1% of 11 million eligible federal and military actives and annuitants (not including spouses and other qualified relatives who are also eligible). This low percentage mirrors the low uptake for purchasing LTCI in the broader LTC market. The previously mentioned Treasury Report states that sales of new LTCI policies have declined since the early 2000s, as numerous insurers decided to exit the market due to the poor financial performance of the product line; and, low take-up rates for LTCI appear to stem in part from low demand for these products.² The report identifies factors influencing demand including: Substitutes for private LTCI such as Medicaid; unpaid care or the ability to receive informal care from family; a desire to leave assets to heirs can suppress demand because people may be motivated to postpone consumption and save money; lack of information and awareness about LTC costs and the ways to finance those costs; lack of trust in insurers; and premiums, costs, and loads.³

² See footnote 1.

³ See footnote 1.

Since less than 0.1% of the eligible population annually enroll in FLTCIP, based on this trend and market trends, it is unlikely that newly eligible individuals would have a high demand for LTCI during a suspension of applications. Further, there are other options for eligible individuals to plan for LTC needs. Some other options to plan for LTC needs during a suspension period include the following: Saving for future needs by setting aside funds to invest in a 401(k), an IRA, or a non-retirement investment account; investing in a long-term care annuity; purchasing a “combination” or “hybrid” product that combines a life insurance policy with a LTC rider; or purchasing a short-term care insurance policy.

Indirect Effects on Other Parties

OPM does not believe this regulation will have a large impact on the broader LTCI market. Approximately 6,000 eligible individuals enroll in FLTCIP annually, which is less than 0.1% of the eligible population. At an average premium of $125 per month or $1,500 per year, the forgone annual premium for new enrollees would total less than $10 million per year during any FLTCIP enrollment suspension. The forgone annual premium for new enrollees would total less than $10 million per year during a FLTCIP enrollment suspension. As discussed above, affected individuals would likely pursue substitute savings and insurance products during a suspension period. OPM estimates that the magnitude of the forgone $10 million on other parties, such as LTC insurers in the LTCI market, would be quite small compared to the larger LTCI market.

Benefits of the Proposed Changes

This proposed rule establishes provisions for OPM to suspend applications to FLTCIP when it is in the best interest of the program. For example, in order to allow for adjustment to underwriting processes or to reprice premium rates after a review of actuarial assumptions. The rule aims to protect eligible individuals from applying to enroll when it has been determined that underwriting processes may need revisions or when the current premium rates may not reflect the cost of the benefits provided due to market volatility and changes to projections about future costs. This allows OPM and the FLTCIP carrier to agree on underwriting changes or new premium rates that reasonably and equitably reflect the cost of the benefits provided as required by the FLTCIP statute.

Executive Orders 12866 and 13563

Executive Orders 12866 and 13563 direct agencies to assess all costs and benefits of available regulatory alternatives and, if regulation is necessary, to select regulatory approaches that maximize net benefits (including potential economic, environmental, public, health, and safety effects, distributive impacts, and equity). Executive Order 13563 emphasizes the importance of quantifying both costs and benefits and of reducing costs, harmonizing rules, and promoting flexibility. This rule has been designated as a significant, but not economically significant, regulatory action under Executive Order 12866.

Congressional Review Act

This rule is not a major rule under 5 U.S.C. 804(2). Subtitle E of the Small Business Regulatory Enforcement Fairness Act of 1996 (codified at 5 U.S.C. 801-808), also known as the Congressional Review Act or CRA, generally provides that before a rule may take effect, the agency promulgating the rule must submit a rule report, which includes a copy of the rule, to each House of the Congress and to the Comptroller General of the United States. A major rule under the CRA cannot take effect until 60 days after it is published in the Federal Register.

Paperwork Reduction Act

Notwithstanding any other provision of law, no person is required to respond to, nor shall any person be subject to a penalty for failure to comply with a collection of information subject to the requirements of the Paperwork Reduction Act of 1995 (44 U.S.C. 3501 et seq.) (PRA) unless that collection of information displays a currently valid Office of Management and Budget (OMB) Control Number.

Regulatory Flexibility Act

I certify that this regulation will not have a significant economic impact on a substantial number of small entities.

Federalism

We have examined this rule in accordance with Executive Order 13132, Federalism, and have determined that this rule will not have any negative impact on the rights, roles, and responsibilities of State, local, or tribal governments.

List of Subjects in 5 CFR Part 875

Administration and general provisions, Eligibility, Cost, and Coverage.

Office of Personnel Management.
Stephen Hickman,
Federal Register Liaison.

Accordingly, OPM proposes to amend title 5, Code of Federal Regulations part 875, as follows:

PART 875—FEDERAL LONG TERM CARE INSURANCE PROGRAM

1. The authority citation for 5 CFR part 875 continues to read as follows:

Authority: 5 U.S.C. 9008; Pub. L. 116-92, 133 Stat. 1198 (5 U.S.C. 8956 note).

Subpart A—Administration and General Provisions

2. Amend § 875.101 by revising the definitions of Carrier, Eligible individual, and Free look; and adding, in alphabetical order, the definition of special application period.

The revisions and addition read as follows:

§ 875.101 Definitions

* * * * *

Carrier means a “qualified carrier” as defined in section 9001 of title 5, United States Code, with which OPM has contracted to provide long term care insurance coverage under this section. A Carrier may designate one or more administrators to perform some of its obligations.

* * * * *

Eligible individual means an employee, annuitant, member of the uniformed services, retired member of the uniformed services or qualified relative, as defined in section 9001 of title 5, United States Code.

* * * * *

Free look means that within 30 days after you are approved for coverage and receive the Benefit Booklet, you may cancel that coverage if you are not satisfied with it and receive a refund of any premium you paid for that coverage. It will be as if the coverage was never issued.

* * * * *

Special application period is a period in which active workforce members and their spouses may apply based on abbreviated underwriting. Such application periods will be provided for pursuant to OPM's authority in section 9008 of title 5, United States Code.

3. Revise § 875.102 to read as follows:

§ 875.102 Where do I send benefit claims?

You must submit your benefit claims to the FLTCIP Carrier.

4. Amend § 875.107 by replacing “and” with “;” at the end of paragraph (b); replacing “.” with “;” at the end of paragraph (c); and adding paragraphs (d) and (e).

The revisions and additions read as follows:

§ 875.107 What are OPM's responsibilities as regulator under this Program?

* * * * *

(d) Suspending applications for FLTCIP coverage, including coverage increases as specified in § 875.110; and

(e) Holding special application periods as specified in § 875.402.

5. Add § 875.110 to read as follows:

§ 875.110 May OPM suspend applications for FLTCIP coverage?

(a) OPM may suspend applications for FLTCIP coverage, including coverage increases, when OPM determines that a suspension is in the best interest of the Program.

(b) OPM will issue a notice in the Federal Register with the effective date of the suspension period, during which no applications for FLTCIP coverage will be accepted. The effective date will be determined at the discretion of the Director and will be at least 30 days after the date of the notice.

(c) The duration of the suspension period, as determined at the discretion of the Director and not to exceed 24 months, will be announced in the Federal Register notice.

(d) At least 30 days before the end of the suspension period, OPM may issue a notice in the Federal Register announcing an extension to the suspension period when OPM determines that such extension is in the best interest of the Program. Any extension will conform to the requirements of this subsection.

Subpart B—Eligibility

6. Revise § 875.203 to read as follows:

§ 875.203 Am I eligible if I separated under the FERS MRA+10 provision?

If you have separated from service under the FERS Minimum Retirement Age and 10 years of service (MRA+10) provision of 5 U.S.C. 8412(g), and have postponed receiving an annuity under that provision, you are eligible to apply for coverage as an annuitant under this part.

7. Amend § 875.204 by revising paragraph (c) to read as follows:

§ 875.204 Am I eligible as a member of the uniformed services?

* * * * *

(c) You are not eligible to apply for coverage solely because you belong to the Individual Ready Reserve. The Individual Ready Reserves includes Reservists who are assigned to a Voluntary Training Unit in the Naval Reserve and Category E in the Air Force Reserve.

§ 875.206 [Reserved]

8. Remove and reserve § 875.206.

9. Revise § 875.207 to read as follows:

§ 875.207 What happens if I am in nonpay status during a special application period?

(a) If you return to pay status from nonpay status during a special application period, you have 60 days from the date of your return, or until the end of the special application period, whichever gives you more time, to apply for coverage pursuant to the rules of that special application period.

(b) If you return to pay status from nonpay status within 180 days after the end of the special application period, you have 60 days from the date of your return to apply for coverage pursuant to the rules of that special application period.

(c) Paragraphs (a) and (b) of this section apply only when you have been in nonpay status for more than one-half of a special application period, unless you went into nonpay status for a reason beyond your control.

10. Amend § 875.209 by revising paragraph (a) to read as follows:

§ 875.209 How do I demonstrate that I am eligible to apply for coverage?

(a) When you submit your application for coverage, you must make known your status as a member of an eligible group. If you are a qualified relative, you need to provide identifying information about the workforce member who makes you an eligible individual.

* * * * *

11. Amend § 875.210 by revising paragraph (b)(1) to read as follows:

§ 875.210 What happens if I become ineligible after I submit an application?

* * * * *

(b) * * *

(1) When you are involuntarily separated from Federal civilian service (except for misconduct) or from the uniformed services (except for a dishonorable discharge); or, when you are the qualified relative of a workforce member who has been involuntarily separated from Federal civilian service (except for misconduct) or from the uniformed services (except for a dishonorable discharge).

* * * * *

12. Revise § 875.211 to read as follows:

§ 875.211 What happens if my eligibility status changes after I submit my application?

(a) If you applied as an active workforce member, and you retire or separate from service after you submit an application for coverage, but before your coverage becomes effective, you must notify the Carrier of this change.

(b) If you applied with abbreviated underwriting during a special application period as an active workforce member or the spouse of an active workforce member, and the active workforce member retires or separates from service before your coverage becomes effective, you must reapply based on your new eligibility status.

13. Revise § 875.213 to read as follows:

§ 875.213 May I apply as a qualified relative if I am the domestic partner of an employee or annuitant?

You may apply for coverage as a qualified relative if you are a domestic partner, as described in § 875.101 of this chapter. As prescribed by OPM, you will be required to provide documentation to demonstrate that you meet these requirements, and you must submit to full underwriting requirements. However, as explained in § 875.210 of this chapter, if you lose your status as a domestic partner, and therefore status as a qualified relative, before your coverage goes into effect, you are no longer eligible for FLTCIP coverage.

Subpart D—Coverage

14. Revise § 875.401 to read as follows:

§ 875.401 How do I apply for coverage?

To apply for coverage, you must complete the application in a form appropriate for your eligibility status as prescribed by the Carrier and approved by OPM.

15. Revise § 875.402 to read as follows:

§ 875.402 When will open seasons be held?

(a) There are no regularly scheduled open seasons for long term care insurance. OPM may have special application periods in which active workforce members and their spouses may apply based on abbreviated underwriting.

(b) In situations where OPM determines that it is appropriate to have a special application period, OPM will announce any such period via a Federal Register Notice. The Notice will include the requirements for eligible applicants during the special application period.

16. Revise § 875.403 to read as follows:

§ 875.403 When may I apply for coverage?

If you are an eligible individual, you may apply at any time outside of a suspension period described in § 875.110. You will be subject to full underwriting requirements. The only exceptions to the full underwriting requirements are described in § 875.402. You may apply as a qualified relative of a workforce member even if the workforce member does not apply for coverage.

17. Revise § 875.404 to read as follows:

§ 875.404 What is the effective date of coverage?

(a)(1) The effective dates of coverage under special application period enrollments will be announced in a Federal Register Notice that announces special application period dates.

(2) If you are an active workforce member or the spouse of an active workforce member and you are applying for coverage during a special application period, the workforce member must be actively at work at least 1 day during the calendar week immediately before the week which contains your coverage effective date for your coverage to become effective. You must inform the Carrier if you do not meet this requirement. In the event you do not meet this requirement, the Carrier will issue you a revised effective date, which will be the 1st day of the next month. The workforce member also must meet the actively at work requirement for any revised effective date for coverage to become effective, or you will be issued another revised effective date in the same manner.

(b) If you enroll at any time outside of a special application period, your coverage effective date is the 1st day of the month after the date your application is approved.

18. Revise § 875.405 to read as follows:

§ 875.405 May a spouse, domestic partner, or other qualified relative of a workforce member apply for coverage?

A spouse, domestic partner, or other qualified relative of a workforce member may apply for coverage with full underwriting at any time following the marriage or commencing date of the domestic partnership, outside of a suspension period as described in § 875.110.

19. Amend § 875.406 by revising paragraph (a)(1) to read as follows:

§ 875.406 May I change my coverage?

* * * * *

(a) * * *

(1) At any time outside of a suspension period described in § 875.110, you may apply to increase your coverage with full underwriting.

* * * * *

20. Revise § 875.410 to read as follows:

§ 875.410 May I continue my coverage when I leave Federal or military service?

If you are an active workforce member, your coverage will automatically continue when you leave active service, as long as the Carrier continues to receive the required premium when due.

21. Revise § 875.413 to read as follows:

§ 875.413 Is it possible to have coverage reinstated?

(a) Under certain circumstances, your coverage can be reinstated. The Carrier will reinstate your coverage if it receives proof satisfactory to it, within 6 months from the date of the written notice of termination, that you suffered from a cognitive impairment or loss of functional capacity, before the grace period ended, that caused you to miss making premium payments. In that event, you will not be required to submit to underwriting. Your coverage will be reinstated retroactively to the termination date but you must pay back premiums for that period. The premium will be the same as it was prior to termination.

(b) If your coverage has terminated because you did not pay premiums or because you requested cancellation, the Carrier may reinstate your coverage within 12 months from the date of the written notice of termination at your request. You will be required to reapply based on full underwriting, and the Carrier will determine whether you are still insurable. If you are insurable, your coverage will be reinstated retroactively to the termination date and you must pay back premiums for that period. The premium will be the same as it was prior to termination.

[FR Doc. 2022-11720 Filed 6-2-22; 8:45 am]

BILLING CODE P